DEPARTMENT OF ENERGY

Federal Energy Regulatory Commission

Combined Notice of Filings #1

Take notice that the Commission received the following electric corporate filings:

Docket Numbers: EC13-32-000.

Applicants: Blue Sky East, LLC.

Description: Application for Authorization Under Section 203 of the Federal Power Act and Request for Waivers, Confidential Treatment, and Shortened Comment Period of Blue Sky East, LLC.

Filed Date: 11/2/12.

Accession Number: 20121102-5155.

Comments Due: 5 p.m. ET 11/23/12.

Take notice that the Commission received the following exempt wholesale generator filings:

Docket Numbers: EG13-6-000.

Applicants: North Sky River Energy, LLC.

Description: Notification of Exempt Wholesale Generator Status of North Sky River Energy, LLC.

Filed Date: 11/2/12.

Accession Number: 20121102-5138.

Comments Due: 5 p.m. ET 11/23/12.

Take notice that the Commission received the following electric rate filings:

Docket Numbers: ER10-2763-005; ER10-2732-005; ER10-2733-005; ER10-2734-005; ER10-2736-005; ER10-2737-005; ER10-2741-005; ER10-2749-005; ER10-2752-005; ER12-2492-001; ER12-2493-001; ER12-2494-001; ER12-2495-001; ER12-2496-001.

Applicants: Bangor Hydro Electric Company.

Description: Notice of Change in Status of Bangor Hydro Electric Company, et al.

Filed Date: 11/2/12.

Accession Number: 20121102-5126.

Comments Due: 5 p.m. ET 11/23/12.

Docket Numbers: ER12-2055-000.

Applicants: San Gorgonio Farms, Inc.

Description: Compliance Refund Report to be effective N/A.

Filed Date: 11/2/12.

Accession Number: 20121102-5186.

Comments Due: 5 p.m. ET 11/23/12.

Docket Numbers: ER13-298-000.

Applicants: New York Independent System Operator, Inc.

Description: New York Independent System Operator, Inc. submits tariff filing per 35.13(a)(2)(iii: NYISO Proposed Tariff Revisions re: Ancillary Services Mitigation to be effective 1/22/2013.

Filed Date: 11/2/12.

Accession Number: 20121102-5110.

Comments Due: 5 p.m. ET 11/23/12.

Docket Numbers: ER13-299-000.

Applicants: PJM Interconnection, L.L.C.

Description: PJM Interconnection, L.L.C. submits tariff filing per 35.13(a)(2)(iii: Original Service Agreement No. 3412; Queue No. X3-011 to be effective 10/12/2012.

Filed Date: 11/2/12.

Accession Number: 20121102-5112.

Comments Due: 5 p.m. ET 11/23/12.

Docket Numbers: ER13-300-000.

Applicants: Niagara Mohawk Power Corporation, New York Independent System Operator, Inc.

Description: Niagara Mohawk Power Corporation submits tariff filing per 35.13(a)(2)(iii: Second Amended Restated SGIA No. 1168 Among NYISO, NiMo, and Albany Energy to be effective 10/19/2012.

Filed Date: 11/2/12.

Accession Number: 20121102-5124.

Comments Due: 5 p.m. ET 11/23/12.

Docket Numbers: ER13-301-000.

Applicants: Southwest Power Pool, Inc.

Description: Southwest Power Pool, Inc. submits tariff filing per 35.13(a)(2)(iii: Mid-Kansas Electric Company Formula Rate Update to be effective 1/1/2013.

Filed Date: 11/2/12.

Accession Number: 20121102-5125.

Comments Due: 5 p.m. ET 11/23/12.

Docket Numbers: ER13-302-000.

Applicants: American Electric Power Service Corporation, PJM Interconnection, L.L.C.

Description: AEPSC files Second Revised Service Agreement 1338—ILDSA among AEPSC and ODEC to be effective 10/2/2012.

Filed Date: 11/2/12.

Accession Number: 20121102-5140.

Comments Due: 5 p.m. ET 11/23/12.

Docket Numbers: ER13-303-000.

Applicants: Atlantic Path 15, LLC.

Description: AP 15's Annual Update of TRBAA to be effective 1/1/2013.

Filed Date: 11/1/12.

Accession Number: 20121101-5198.

Comments Due: 5 p.m. ET 11/23/12.

Docket Numbers: ER13-304-000.

Applicants: Black Hills/Colorado Electric Utility Co.

Description: OATT Revised Sections 13 and 14 to be effective 11/3/2012.

Filed Date: 11/2/12.

Accession Number: 20121102-5150.

Comments Due: 5 p.m. ET 11/23/12.

Docket Numbers: ER13-305-000.

Applicants: PJM Interconnection, L.L.C.

Description: Revisions to the RAA Schedule 10.1 incorporating new Cleveland LDA to be effective 1/4/2013.

Filed Date: 11/2/12.

Accession Number: 20121102-5152.

Comments Due: 5 p.m. ET 11/23/12.

Docket Numbers: ER13-306-000.

Applicants: San Gorgonio Farms, Inc.

Description: Updated Market-Based Tariff Revised Limitations and Exemptions Section to be effective 8/15/2012.

Filed Date: 11/2/12.

Accession Number: 20121102-5153.

Comments Due: 5 p.m. ET 11/23/12.

Docket Numbers: ER13-307-000.

Applicants: Midwest Independent Transmission System Operator, Inc.

Description: 11-2-12 MDU Attachment O and GG Filing to be effective 1/1/2013.

Filed Date: 11/2/12.

Accession Number: 20121102-5160.

Comments Due: 5 p.m. ET 11/23/12.

Docket Numbers: ER13-308-000.

Applicants: Midwest Independent Transmission System Operator, Inc.

Description: SA 2456 Emmet-ITC GIA to be effective 11/3/2012.

Filed Date: 11/2/12.

Accession Number: 20121102-5184.

Comments Due: 5 p.m. ET 11/23/12.

Docket Numbers: ER13-309-000.

Applicants: Cheyenne Light, Fuel and Power Company.

Description: OATT Revised Sections 13 and 14 to be effective 11/3/2012.

Filed Date: 11/2/12.

Accession Number: 20121102-5196.

Comments Due: 5 p.m. ET 11/23/12.

Docket Numbers: ER13-310-000.

Applicants: MP2 Energy NJ LLC.

Description: Market Based Rate Application to be effective 11/5/2012.

Filed Date: 11/5/12.

Accession Number: 20121105-5003.

Comments Due: 5 p.m. ET 11/26/12.

Docket Numbers: ER13-311-000.

Applicants: MP2 Energy IL LLC.

Description: Market Based Rate Application to be effective 11/5/2012.

Filed Date: 11/5/12.

Accession Number: 20121105-5004.

Comments Due: 5 p.m. ET 11/26/12.

Docket Numbers: ER13-312-000.

Applicants: Ameren Illinois Company.

Description: Ameren Illinois Company's Request for Approval of Updated Depreciation Accrual Rates.

Filed Date: 11/2/12.

Accession Number: 20121102-5215.

Comments Due: 5 p.m. ET 11/23/12.

Take notice that the Commission received the following electric securities filings:

Docket Numbers: ES13-7-000.

Applicants: PJM Settlement, Inc., PJM Interconnection, L.L.C.

Description: Application of PJM Settlement, Inc. and PJM Interconnection, L.L.C. Under Section 204 of the Federal Power Act for an Order Authorizing the Issuance of Securities and Approving Guaranty.

Filed Date: 11/2/12.

Accession Number: 20121102-5216.

Comments Due: 5 p.m. ET 11/23/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2012.
Nathaniel J. Davis, Sr.,
Deputy Secretary.

[FR Doc. 2012-27498 Filed 11-9-12; 8:45 am]

BILLING CODE 6717-01-P